DEPARTMENT OF DEFENSE

Office of the Secretary

Defense Innovation Board; Notice of Federal Advisory Committee Meeting

AGENCY: Deputy Chief Management Officer, Department of Defense.

ACTION: Notice of Federal Advisory Committee Meeting.

SUMMARY: The Department of Defense (DoD) is publishing this notice to announce that the following Federal Advisory Committee meeting of the Defense Innovation Board will take place.

DATES: Open to the public Tuesday April 4, 2017 from 9:00 a.m. to 11:00 a.m. Closed to the public Tuesday April 4, 2017 from 11:45 a.m. to 5:30 p.m.

ADDRESSES: The open portion of the meeting will be held at The Pentagon, Washington DC, in the Pentagon Conference Center—Room B6. (Escort is required for attendees who do not have Pentagon credentials. See guidance in the SUPPLEMENTARY INFORMATION section.) The closed portion of the meeting will be held in the Pentagon.

FOR FURTHER INFORMATION CONTACT: Roma Laster, (703) 695-7563 (Voice), (703) 614-4365 (Facsimile), roma.k.laster.civ@mail.mil (Email). Mailing address is Defense Innovation Board, 9000 Defense Pentagon, Room 5E572, Washington, DC 20350.

SUPPLEMENTARY INFORMATION: Due to circumstances beyond the control of the Designated Federal Officer and the Department of Defense, the Defense Innovation Board is unable to provide public notification, as required by 41 CFR 102-3.150(a), for its meeting on Tuesday, April 4, 2017. Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The mission of the Defense Innovation Board (DIB) is to examine and provide the Secretary of Defense and the Deputy Secretary of Defense independent advice and recommendations on innovative means to address future challenges in terms of integrated change to organizational structure and processes, business and functional concepts, and technology applications. The DIB focuses on (a) technology and capabilities, (b) practices and operations, and (c) people and culture.

Agenda: During the open portion of the meeting, the DIB will receive an update from the Science and Technology Subcommittee, and deliberate and propose observations on the DIB's Interim Recommendation 12: Establish a global and secure repository for data collection, sharing, and analysis. These findings will be based upon discussions and observations of the DIB. The DIB will invite selected experts to provide analysis and inputs related to Recommendation 12 during the meeting. Potential experts include representatives from the Joint Staff Director for Logistics (J4); the Business Transformation Office—Army; the Cost Assessment and Program Evaluation office; the Defense Digital Service; the office of the Director for Global Operations (J3); the office of the Director of Future Operations (US Air Force/A3); and the office of the Under Secretary of Defense for Intelligence (Warfighter Support). Members of the public will have the opportunity to provide input on the DIB's interim recommendation to establish a global and secure repository for data collection, sharing, and analysis (limited availability). See below for additional information on how to sign up. The DIB will be briefed on DoD's implementation activities related to DIB recommendations. During the closed portion of the meeting, the DIB will have detailed and classified discussions of their observations and recommendations with DoD senior leaders to include the Secretary of Defense and/or the Deputy Secretary of Defense. They will also receive classified informational briefings related to “data” and/or machine learning from representatives from the Joint Staff, the Under Secretary of Defense for Intelligence, and the U.S. Air Force/A3.

Meeting Accessibility: Pursuant to Federal statutes and regulations (FACA, the Government in the Sunshine Act, 5 U.S.C. 552b, and 41 CFR 102-3.140 through 102-3.165) and the availability of space, the meeting is open to the public from 9:00 a.m. to 11:00 a.m. Seating is on a first-come basis. Members of the public wishing to attend the meeting should contact the Executive Director to register and make arrangements for a Pentagon escort, if necessary, no later than five business days prior to the meeting, at the address noted in the FOR FURTHER INFORMATION CONTACT section.

Special Accommodations: Individuals requiring special accommodations to access the public meeting should contact the Executive Director at least five business days prior to the meeting so that appropriate arrangements can be made. Pursuant to 5 U.S.C. 552b(c)(1), the DoD has determined that the portion of the meeting from 11:45 a.m. to 5:30 p.m. shall be closed to the public. The Acting Deputy Chief Management Officer, in consultation with the Office of the DoD General Counsel, has determined in writing that this portion of the committee's meeting will be closed as the discussions will involve classified matters of national security. Such classified material is so inextricably intertwined with the unclassified material that it cannot reasonably be segregated into separate discussions without disclosing matters that are classified SECRET or higher.

Written Statements: Pursuant to section 10(a)(3) of the FACA and 41 CFR 102-3.140, the public or interested organizations may submit written comments to the DIB about its approved agenda pertaining to this meeting or at any time regarding the DIB's mission. Individuals submitting a written statement must submit their statement to the Executive Director at osd.innovation@mail.mil. Written comments that do not pertain to a scheduled meeting may be submitted at any time. However, if individual comments pertain to a specific topic being discussed at the planned meeting, then such comments must be received in writing not later than March 30, 2017. The Executive Director will compile all written submissions received by the deadline and provide them to Board Members prior to the meeting. Comments received after this date may not be provided to or considered by the DIB until a later date.

Oral Section: Individuals wishing to make an oral statement to the DIB at the public meeting may be permitted to speak for up to three minutes. Anyone wishing to speak to the DIB should submit a request by email at osd.innovation@mail.mil not later than March 30, 2017 for planning. Requests for oral comments should include a copy or summary of planned remarks for archival purposes. Individuals may also be permitted to submit a comment request at the public meeting; however, depending on the number of individuals requesting to speak, the schedule may limit participation.

Dated: March 23, 2017.
Aaron Siegel,
Alternate OSD Federal Register Liaison Officer, Department of Defense.

[FR Doc. 2017-06112 Filed 3-27-17; 8:45 am]

BILLING CODE 5001-06-P